DEPARTMENT OF TRANSPORTATION

Federal Aviation Administration

14 CFR Part 71

[Docket No. FAA-2012-0055; Airspace Docket No. 11-ACE-12]

RIN 2120-AA66

Modification of VOR Federal Airways V-10, V-12, and V-508 in the Vicinity of Olathe, KS

AGENCY: Federal Aviation Administration (FAA), DOT.

ACTION: Final rule.

SUMMARY: This action modifies three VHF Omnidirectional Range (VOR) Federal airways V-10, V-12, and V-508 in the vicinity of Olathe, KS. The FAA is taking this action to adjust the airway route structure due to the planned decommissioning of the Johnson County VOR navigation aid located on Johnson County Executive Airport, Olathe, KS. The establishment of the WETZL fix is canceled due to lack of extended service volume, and replaced with the existing DODSN fix, thereby making a one-degree correction to the Napoleon, MO, radial in the V-10 and V-12 airway descriptions. This action also removes the reference to the decommissioning of the Distance Measuring Equipment (DME) portion of the Johnson County VOR/DME navigation aid, as it remains in service.

DATES: Effective date: 0901 UTC, September 20, 2012. The Director of the Federal Register approves this incorporation by reference action under 1 CFR part 51, subject to the annual revision of FAA Order 7400.9 and publication of conforming amendments.

FOR FURTHER INFORMATION CONTACT: Colby Abbott, Airspace, Regulations and ATC Procedures Group, Office of Airspace Services, Federal Aviation Administration, 800 Independence Avenue SW., Washington, DC 20591; telephone: (202) 267-8783.

SUPPLEMENTARY INFORMATION:

History

On Tuesday, February 21, 2012, the FAA published in the Federal Register a Notice of Proposed Rulemaking (NPRM) to modify VOR Federal airways V-10, V-12, and V-508, in the vicinity of Olathe, KS (77 FR 9876), due to the planned decommissioning of the Johnson County VOR navigation aid. Interested parties were invited to participate in this rulemaking effort by submitting written comments on the proposal. One positive comment from the Aircraft Owners and Pilots Association was received supporting the proposed action and no negative comments were received.

The NPRM referenced the planned decommissioning of the Johnson County VOR/DME navigation aid in the Summary, Background, and Proposal sections, in error. The FAA's planned decommissioning action is for the VOR portion of the Johnson County VOR/DME navigation aid only. The DME equipment will remain in service.

Subsequent to the ending of the comment period, the proposed action to establish the WETZL fix in the same geographic location as the decommissioned Johnson County VOR, and use it to replace the VOR in the V-10 and V-12 airway descriptions, was changed to using the DODSN fix already established on the airways. The FAA took this action based on the airways not passing flight check at multiple altitudes from 4,000 feet MSL to 15,000 feet MSL due to the lack of extended service volume issues at WETZL fix. The effect of this change on the existing V-10 and V-12 airways is negligible; requiring a one-degree correction to the Napoleon, MO, navigation aid radial used to describe the fix's location from what was proposed in the NPRM. The corrected Napoleon, MO, radial information is changed from “Napoleon, MO, 242°(T)/235°(M) radial” to “Napoleon, MO, 243°(T)/236°(M) radial.” Only the true radial information is published in this rule.

With the exception of minor editorial changes and the changes noted above, this amendment is the same as that proposed in the NPRM.

The Rule

This action amends Title 14 Code of Federal Regulations (14 CFR) part 71 by modifying V-10, V-12, and V-508 in the vicinity of Olathe, KS, due to the planned decommissioning of the OJC VOR in July 2012.

To retain the airway structure of V-10 and V-12 in the vicinity of Olathe, KS, the DODSN fix (described by the intersection of Emporia, KS, and Napoleon, MO, navigation aid radials), replaces the OJC VOR in the airway descriptions. Specifically, the amended V-10 and V-12 airway descriptions replace the “Johnson County, KS” reference with “INT Emporia 063° and Napoleon, MO, 243° radials”.

The amended V-508 now terminates at the existing RUGBB fix (described by the intersection of Topeka, KS, and Kansas City, MO, navigation aid radials). Ending V-508 at the RUGBB fix retains the capability for eastbound aircraft to continue to destinations further east or northeast via transition from V-508 to V-502.

VOR Federal airways are published in paragraph 6010(a) of FAA Order 7400.9V dated August 9, 2011, and effective September 15, 2011, which is incorporated by reference in 14 CFR 71.1. The VOR Federal Airways listed in this document will be subsequently published in the Order.

The FAA has determined that this regulation only involves an established body of technical regulations for which frequent and routine amendments are necessary to keep them operationally current. Therefore, this regulation: (1) Is not a “significant regulatory action” under Executive Order 12866; (2) is not a “significant rule” under Department of Transportation (DOT) Regulatory Policies and Procedures (44 FR 11034; February 26, 1979); and (3) does not warrant preparation of a regulatory evaluation as the anticipated impact is so minimal. Since this is a routine matter that will only affect air traffic procedures and air navigation, it is certified that this rule, when promulgated, will not have a significant economic impact on a substantial number of small entities under the criteria of the Regulatory Flexibility Act.

The FAA's authority to issue rules regarding aviation safety is found in Title 49 of the United States Code. Subtitle I, Section 106 describes the authority of the FAA Administrator. Subtitle VII, Aviation Programs, describes in more detail the scope of the agency's authority.

This rulemaking is promulgated under the authority described in Subtitle VII, Part A, Subpart I, Section 40103. Under that section, the FAA is charged with prescribing regulations to assign the use of the airspace necessary to ensure the safety of aircraft and the efficient use of airspace. This regulation is within the scope of that authority as it modifies VOR Federal airways in the vicinity of Olathe, KS.

Environmental Review

The FAA has determined that this action is categorically excluded from further environmental documentation according to FAA Order 1050.1E, paragraphs 311a. The implementation of this action will not result in any extraordinary circumstances in accordance with paragraph 304 of Order 1050.1E.

List of Subjects in 14 CFR Part 71

Airspace, Incorporation by reference, Navigation (air).

Adoption of the Amendment

In consideration of the foregoing, the Federal Aviation Administration amends 14 CFR part 71 as follows:

PART 71—DESIGNATION OF CLASS A, B, C, D, AND E AIRSPACE AREAS; AIR TRAFFIC SERVICE ROUTES; AND REPORTING POINTS

1. The authority citation for part 71 continues to read as follows:

Authority: 49 U.S.C. 106(g), 40103, 40113, 40120; E.O. 10854, 24 FR 9565, 3 CFR, 1959-1963 Comp., p. 389.

§ 71.1 [Amended]

2. The incorporation by reference in 14 CFR 71.1 of the FAA Order 7400.9V, Airspace Designations and Reporting Points, dated August 9, 2011, and effective September 15, 2011, is amended as follows:

Paragraph 6010(a) Domestic VOR Federal airways.

* * * * *

V-10 [Amended]

From Pueblo, CO; 18 miles, 48 miles, 60 MSL, Lamar, CO; Garden City, KS; Dodge City, KS; Hutchinson, KS; Emporia, KS; INT Emporia 063° and Napoleon, MO, 243° radials; Napoleon; Kirksville, MO; Burlington, IA; Bradford, IL; to INT Bradford 058° and Joliet, IL, 287° radials. From INT Chicago Heights, IL, 358° and Gipper, MI, 271° radials; Gipper; Litchfield, MI; INT Litchfield 101° and Carleton, MI, 262° radials; Carleton; INT Jefferson, OH, 279° and Youngstown, OH, 320° radials; Youngstown; INT Youngstown 116° and Revloc, PA, 300° radials; Revloc; INT Revloc 107° and Lancaster, PA, 280° radials; to Lancaster. The airspace within Canada is excluded.

* * * * *

V-12 [Amended]

From Gaviota, CA; San Marcus, CA; Palmdale, CA; 38 miles, 6 miles wide, Hector, CA; 12 miles, 38 miles, 85 MSL, 14 miles, 75 MSL, Needles, CA; 45 miles, 34 miles, 95 MSL, Drake, AZ; Winslow, AZ; 30 miles, 85 MSL, Zuni, NM; Albuquerque, NM; Otto, NM; Anton Chico, NM; Tucumcari, NM; Amarillo, TX; Mitbee, OK; Anthony, KS; Wichita, KS; Emporia, KS; INT Emporia 063° and Napoleon, MO, 243° radials; Napoleon; INT Napoleon 095° and Columbia, MO, 292° radials; Columbia; Foristell, MO; Troy, IL; Bible Grove, IL; Shelbyville, IN; Richmond, IN; Dayton, OH; Appleton, OH; Newcomerstown, OH; Allegheny, PA; Johnstown, PA; Harrisburg, PA; INT Harrisburg 092° and Pottstown, PA, 278° radials; to Pottstown.

* * * * *

V-508 [Amended]

From Hill City, KS; Hays, KS; Salina, KS; INT Salina 082° and Manhattan, KS, 207° radials; Manhattan; INT Manhattan 078° and Topeka, KS, 293° radials; Topeka; to INT Topeka 112° and Kansas City, MO, 228° radials.

Issued in Washington, DC, on July 12, 2012.
Ellen Crum,
Acting Manager, Airspace, Regulations & ATC Procedures Group.

[FR Doc. 2012-17510 Filed 7-19-12; 8:45 am]

BILLING CODE 4910-13-P